DEPARTMENT OF ENERGY

Federal Energy Regulatory Commission

[Docket No. ER02-763-003, et al.]

Indigo Generation LLC, et al.; Electric Rate and Corporate Filings

October 23, 2002.

The following filings have been made with the Commission. The filings are listed in ascending order within each docket classification.

1. Indigo Generation LLC, Larkspur Energy LLC and Wildflower Energy LP (collectively the Wildflower Entities)

[Docket No. ER02-763-003]

Take notice that on October 21, 2002, Indigo Generation LLC, Larkspur Energy LLC and Wildflower Energy LP (collectively the Wildflower Entities) supplemented their June 26, 2002 filing in compliance with the directives of the Commission in a letter order dated June 11, 2002 in the above-captioned dockets.

Comment Date: November 12, 2002.

2. PECO Energy Company

[Docket No. ER02-1779-001]

Take notice that on October 21, 2002, PECO Energy Company (PECO) submitted for filing First Revised Page 32 to the Interconnection Agreement between PECO, and Rock Springs Generation LLC and CED Rock Springs, Inc. (Rock Springs/CED), and requests an effective date of October 21, 2002. The Interconnection Agreement had originally been filed by PECO Energy unexecuted. The unexecuted Interconnection Agreement was designated as Service Agreement No. 669 under PJM Interconnection L.L.C.'s (PJM) FERC Electric Tariff Fourth Revised Volume No. 1, and accepted by the Commission for filing with an effective date of May 10, 2002, subject to PECO Energy making this compliance filing. Original Page 32 has been revised to reflect the electronic signatures of the parties to the Interconnection Agreement.

Other than the addition of the parties' signatures, the Interconnection Agreement remains unchanged. Copies of this filing were served on Rock Springs/CED and PJM.

Comment Date: November 12, 2002.

3. New England Power Pool and ISO New England Inc.

[Docket No. ER02-2330-003]

Take notice that on October 21, 2002, the New England Power Pool (NEPOOL) Participants Committee and ISO New England Inc. submitted revisions to Market Rule 1 in response to requirements of the Commission's September 20, 2002 order in New England Power Pool et al., 100 FERC ¶ 61,287 (2002).

The NEPOOL Participants Committee states that copies of these materials were sent to all persons identified on the service lists in the captioned proceedings, the NEPOOL Participants and the six New England state governors and regulatory commissions.

Comment Date: November 12, 2002.

4. PPL Electric Utilities Corporation

[Docket No. ER03-3-001]

Take notice that on October 21, 2002, PPL Electric Utilities Corporation (PPL Electric) filed an executed Interconnection Agreement between PPL Electric and Allegheny Electric Cooperative, Inc. for interconnection at the Renovo/Chapman delivery point. The executed Interconnection Agreement replaces the unexecuted version that was filed in this docket on October 1, 2002.

Comment Date: November 12, 2002.

5. PPL Electric Utilities Corporation

[Docket No. ER03-4-001]

Take notice that on October 21, 2002, PPL Electric Utilities Corporation (PPL Electric) filed an executed Interconnection Agreement between PPL Electric and Allegheny Electric Cooperative, Inc. for interconnection at the Fairfield delivery point. The executed Interconnection Agreement replaces the unexecuted version that was filed in this docket on October 1, 2002.

Comment Date: November 12, 2002.

6. PECO Energy Company

[Docket No. ER03-63-000]

Take notice that on October 21, 2002 PECO Energy Company (PECO) submitted for filing an Interconnection Agreement by and between PECO and FPL Energy Marcus Hook, L.P. (FPL) for Generation Interconnection and Parallel Operation, designated as Service Agreement No. 791 under PJM Interconnection, L.L.C.”s FERC Electric Tariff, Fourth Revised Volume No. 1, to be effective on October 21, 2002. Copies of this filing were served on Visteon and PJM.

Comment Date: November 12, 2002.

7. PECO Energy Company

[Docket No. ER03-64-000]

Take notice that on October 21, 2002, PECO Energy Company (PECO) submitted for filing a Construction Agreement between PECO and Fairless Energy, LLC (Fairless Energy) related to the Fairless Energy Station, to be located in Fairless Hills, Pennsylvania. The Construction Agreement was designated as Service Agreement 792 under PJM Interconnection L.L.C.'s (PJM) FERC Electric Tariff Fourth Revised Volume No. 1. The proposed effective date for the Construction Agreement is October 21, 2002. Copies of this filing were served on Fairless Energy and PJM.

Comment Date: November 12, 2002.

8. Allegheny Trading Finance Company

[Docket No. ER03-65-000]

Take notice that on October 21, 2002, Allegheny Trading Finance Company (ATF) filed a market rate tariff of general applicability under which it proposes to sell capacity and energy to affiliates and non-affiliates at market-based rates, and to make such sales to franchised public utility affiliates at rates capped by a publicly available regional index price. ATF requests an effective date of October 22, 2002.

Comment Date: November 12, 2002.

9. Idaho Power Company

[Docket No. ER03-66-000]

Take notice that on October 21, 2002, Idaho Power Company filed the Goshen Series Capacitor Replacement Agreement between Idaho Power Company and PacifiCorp.

Comment Date: November 12, 2002.

10. PJM Interconnection, L.L.C.

[Docket No. ER03-67-000]

Take notice that on October 21, 2002 PJM Interconnection, L.L.C. (PJM), submitted for filing thirty-three executed interconnection service agreements and interim interconnection service agreements between PJM and Conectiv Bethlehem, Inc., Industrial Power Generating Corp., PPL Martins Creek, L.L.C., PSEG Nuclear LLC, MM Hackensack Energy L.L.C., Delaware Municipal Electric Corporation, Conectiv Delmarva Generation, Inc., Constellation Power Source Generation, Inc., PPL Holtwood, L.L.C., Energy Systems North East, L.L.C., Conectiv Mid-Merit Inc., Lebanon Methane Recovery, Inc., Williams Generation Company—Hazleton, Somerset Windpower, L.L.C., AES Red Oak, L.L.C., Susquehanna Electric Company, LMB Funding, Limited Partnership, PPL Susquehanna, LLC, AES Ironwood L.L.C., Sight and Sound Ministries, Inc., Motiva Enterprises, L.L.C., Public Service Electric and Gas Company, PSEG Power, L.L.C., PPL Montour, LLC, Mantua Creek Generating Company, LP, and Liberty Electric Power, LLC, and three notices of cancellation of certain ISAs and Interim ISAs that have been superceded.

PJM requests a waiver of the Commission's 60-day notice requirement to permit the effective dates agreed to by the parties. Copies of this filing were served upon each of the parties to the agreements and the state regulatory commissions within the PJM region.

Comment Date: November 12, 2002.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's web site under the “e-Filing” link. The Commission strongly encourages electronic filings.

Linwood A. Watson, Jr.,
Deputy Secretary.

[FR Doc. 02-27658 Filed 10-29-02; 8:45 am]

BILLING CODE 6717-01-P